DEPARTMENT OF THE INTERIOR

National Park Service

[NPS-WASO-NRNHL-DTS#-35853; PPWOCRADI0, PCU00RP14.R50000]

National Register of Historic Places; Notification of Pending Nominations and Related Actions

AGENCY: National Park Service, Interior.

ACTION: Notice.

SUMMARY: The National Park Service is soliciting electronic comments on the significance of properties nominated before May 6, 2023, for listing or related actions in the National Register of Historic Places.

DATES: Comments should be submitted electronically by June 5, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 6, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers:

Key: State, County, Property Name, Multiple Name (if applicable), Address/Boundary, City, Vicinity, Reference Number.

CALIFORNIA

Mendocino County

Bear Harbor Landing Historical and Archaeological District (Northern California Doghole Ports Maritime Cultural Landscape MPS), Address Restricted, Whitethorn vicinity, MP100009041

MAINE

Penobscot County

Alpha Tau Omega House, 81 College Ave., Orono, SG100009047

MISSISSIPPI

Lee County

Benson Farm House, 486 Cty. Rd. 520, Shannon vicinity, SG100009039

Simpson County

Mendenhall Hotel and Revolving Tables Restaurant, The, 100 Wm. Gerald Morgan Memorial Dr., Mendenhall, SG100009037

OHIO

Hamilton County

Riverview House Apartments (Apartment Buildings in Ohio Urban Centers, 1870-1970 MPS), 2538 Hackberry St., Cincinnati, MP100009044

Lucas County

Uptown Toledo Historic District, Roughly bounded by 10th St., Michigan St., Spielbusch Ave., Canton St., Southard Ave., alley to the northeast of Adams St., Adams St., Woodruff Ave., 21st St., 18th St., Brookwood Ave., and Washington St., Toledo, SG100009042

Montgomery County

College Hill Historic District, Roughly bound by Philadelphia Dr., Wesleyan Rd., alley south of Salem Ave., and Cornell Dr., Dayton, SG100009040

SOUTH DAKOTA

Edmunds County

Krueger, William C. and Anna, Barn, ¼ mile south of jct. of 371st Ave. and 125th St., Wetonka vicinity, SG100009043

WISCONSIN

Grant County

Davies, Edward and Mary, House, 315 North 2nd St., Platteville, SG100009038

Additional documentation has been received for the following resources:

MAINE

Waldo County

Belfast Historic District (Additional Documentation), Roughly bounded by High, Grove and Elm, Congress, Main and Market and Imrose, Belfast, AD86002733

MARYLAND

Frederick County

Brunswick Historic District (Additional Documentation), Roughly bounded by Potomac River, Central, Park and 10th Aves., West C and West B Sts., Brunswick, AD79001128

OREGON

Jackson County

Acorn Woman Peak Lookout (Additional Documentation), (U.S. Forest Service Historic Structures on the Rogue River National Forest MPS), Approx. 8 mi. south of FS Rd. 20, 25 mi. south of Jacksonville, Jacksonville vicinity, AD00000512

Authority: Section 60.13 of 36 CFR part 60.

Dated: May 10, 2023.
Sherry A. Frear,
Chief, National Register of Historic Places/National Historic Landmarks Program.

[FR Doc. 2023-10713 Filed 5-18-23; 8:45 am]

BILLING CODE 4312-52-P